DEPARTMENT OF HOMELAND SECURITY

Coast Guard

33 CFR Part 100

[Docket No. USCG-2021-0772]

Special Local Regulation: Palm Beach Holiday Boat Parade

AGENCY: Coast Guard, DHS.

ACTION: Notice of enforcement of regulation.

SUMMARY: The Coast Guard will enforce a special local regulation on December 4, 2021 to provide for the safety and security of navigable waterways during the Palm Beach Holiday Boat Parade. During the enforcement period, all non-participant persons and vessels will be prohibited from entering, transiting, anchoring, or remaining within the regulated area unless authorized by the Captain of the Port Miami or a designated representative. The operator of any vessel in the regulated area must comply with instructions from the Coast Guard or designated representative.

DATES: The regulation in 33 CFR 100.702, Table 1 to § 100.702, Line 9, will be enforced on December 4, 2021, from 5:30 p.m. through 8:30 p.m.

FOR FURTHER INFORMATION CONTACT: If you have questions about this notice of enforcement, call or email Mr. Omar Beceiro, Sector Miami Waterways Management Division, U.S. Coast Guard: Telephone: 305-535-4317, Email: Omar.Beceiro@uscg.mil.

SUPPLEMENTARY INFORMATION: The Coast Guard will enforce a special local regulation for the Palm Beach Holiday Boat Parade published in 33 CFR 100.702, Table 1 to § 100.702, Line 9, on December 4, 2021 from 5:30 p.m. through 8:30 p.m. This action is being taken to provide for the safety and security of navigable waterways during this one-day event. The regulations for marine events within the Seventh Coast Guard District can be found in § 100.702(c) covers this event and Table 1 to § 100.702, Line 9, specifies the location of the special local regulation for the Palm Beach Holiday Boat Parade, which encompasses a moving buffer zone of 50 yards around the parade as it travels along the Intracoastal Waterway in Palm Beach, FL. Only event sponsor designated participants and official patrol vessels will be allowed to enter the regulated area. Spectators may contact the Coast Guard Patrol Commander to request permission to pass through the regulated area. If permission is granted, spectators must pass directly through the regulated area at a safe speed without loitering.

In addition to this notice of enforcement in the Federal Register, the Coast Guard will inform the public through Local Notice to Mariners and marine information broadcasts at least 24 hours in advance of the enforcement of the special local regulation.

Dated: October 27, 2021.
J.F. Burdian,
Captain, U.S. Coast Guard, Captain of the Port Miami.

[FR Doc. 2021-24906 Filed 11-12-21; 8:45 am]

BILLING CODE 9110-04-P